DEPARTMENT OF ENERGY

Federal Energy Regulatory Commission

[Project No. 13579-000]

FFP Qualified Hydro 14, LLC; Notice of Preliminary Permit Application Accepted for Filing and Soliciting Comments, Motions To Intervene, and Competing Applications

December 10, 2009.

On September 4, 2009, FFP Qualified Hydro 14, LLC filed an application, pursuant to Section 4(f) of the Federal Power Act, proposing to study the feasibility of the Saylorville Dam Hydroelectric Project No. 13579, to be located at the Saylorville Dam on the Des Moines River, in Polk County, Iowa. The Saylorville Dam is owned and operated by the U.S. Army Corps of Engineers and includes the existing reservoir, dam, and outlet works.

The proposed project would consist of: (1) A new 100-foot-long, 40-foot-wide intake structure; (2) a new 2,600-foot-long, 20-foot-diameter penstock; (3) two new Kaplan turbine-generator units with a combined capacity of 11 megawatts; (4) a new 100-foot-long, 60-foot-wide powerhouse; (5) a tailrace utilizing an existing side channel; (6) a new 13.8-kilovolt, 7,000-foot-long transmission line; (7) a new substation; (8) a new 950-foot access road; (9) and appurtenant facilities. The project would have an estimated annual generation of 55,000 megawatt-hours.

Applicant Contact: Ramya Swaminathan, FFP Qualified Hydro 14 LLC, 33 Commercial Street, Gloucester, MA 01930, (978) 226-1531.

FERC Contact: Brandon Cherry, (202) 502-8328.

Deadline for filing comments, motions to intervene, competing applications (without notices of intent), or notices of intent to file competing application: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of Commission's Web site at http://www.ferc.gov/docs-filing/elibrary.asp. Enter the docket number (P-13579) in the docket number field to access the document. For assistance, call toll-free 1-866-208-3372.

Kimberly D. Bose,
Secretary.

[FR Doc. E9-29922 Filed 12-15-09; 8:45 am]

BILLING CODE 6717-01-P